ELECTION ASSISTANCE COMMISSION

Sunshine Act Meeting Notice

AGENCY: United States Election Assistance Commission (EAC).

ACTION: Notice of Public Meeting Roundtable Discussion.

Date & Time: Friday, February 29, 2008, 9 a.m.-2 p.m. (EST).

Place: United State Election Assistance Commission, 1225 New York Ave., NW., Suite 150, Washington, DC 20005.

Agenda

The Commission will host a voting systems manufacturer roundtable discussion regarding the Technical Guidelines Development Committee's (TGDC) recommended voluntary voting system guidelines (VVSG). The discussion will be focused upon the following topics: (1) The dominant business model for voting system manufacturers and their role as innovators; (2) How to evaluate innovative systems, for which there are no standards for purposes of certification; (3) The value and risks associated with Open Ended Vulnerability Testing; (4) The processes associated with testing to the VVSG and possible modifications; (5) Whether the recommend TGDC standards create appropriate functional standards that promote innovation; (6) The cost implications of the proposed VVSG; (7) Development of systems to the proposed VVSG and possible time frames.

This meeting will be open to the public.

Person to Contact for Information: Matthew Masterson, Telephone: (202) 566-3100.

Thomas R. Wilkey,
Executive Director, U.S. Election Assistance Commission.

[FR Doc. 08-565 Filed 2-5-08; 10:57 am]

BILLING CODE 6820-KF-M